ENVIRONMENTAL PROTECTION AGENCY

[FRL-OW-7620-6]

Wetland Program Development Grant Guidelines

AGENCY: Environmental Protection Agency (EPA).

ACTION: Solicitation of applications.

SUMMARY: Wetland Program Development Grants (WPDGs) provide eligible applicants an opportunity to conduct projects that promote the coordination and acceleration of research, investigations, experiments, training, demonstrations, surveys, and studies relating to the causes, effects, extent, prevention, reduction, and elimination of water pollution. While WPDGs submitted for this competition can continue to be used by recipients to build and refine any element of a comprehensive wetland program, emphasis for the competition will be given to funding projects that address the three areas identified by EPA: (1) Developing a comprehensive monitoring and assessment program; (2) improving the effectiveness of compensatory mitigation; and (3) refining the protection of vulnerable wetlands and aquatic resources. States, Tribes, local governments (S/T/LGs), interstate associations, intertribal consortia, and national non-profit, non-governmental organizations are eligible to apply for the competition. This document describes the grant selection and award process for eligible applicants interested in applying for WPDGs under the competitive process.

DATES: The deadline for receipt of proposals is set by EPA Headquarters and each EPA Regional Office, independently. Please contact the appropriate Headquarters or Regional Office Wetland Grant Coordinator for that offices' deadline or to confirm a deadline. (See Section VII for Agency Contact information.) Deadlines will also be posted on the EPA Web site at http://www.epa.gov/owow/wetlands/grantguidelines/.

ADDRESSES: Application proposals must be submitted to the appropriate EPA Headquarters or Regional Office and postmarked or emailed by the appropriate Headquarters or Regional Office deadline. Application proposals may be submitted electronically, by mail, or by hand delivery/courier. Applicants interested in being put on a mailing list to obtain more details should contact the appropriate Headquarters or Regional Office Wetland Grant Coordinator (see Section VII for Agency Contact information).

FOR FURTHER INFORMATION CONTACT: Connie Cahanap, Office of Wetlands, Oceans, and Watersheds, Wetlands Division (MC 4502T), U.S. Environmental Protection Agency, 1200 Pennsylvania Avenue, NW., Washington, DC 20460, telephone: (202) 566-1382, fax: (202) 566-1349, e-mail: cahanap.concepcion@epa.gov.

SUPPLEMENTARY INFORMATION: Federal Agency Name: US Environmental Protection Agency, Office of Water, Office of Wetlands, Oceans, and Watersheds, Wetlands Division.

Funding Opportunity Title: Wetland Program Development Grants.

Announcement Type: Notice.

Catalog of Domestic Assistance Number: 66.461.

Overview

The goals of the Environmental Protection Agency's (EPA's) wetland program include increasing the quantity and quality of wetlands in the U.S. by conserving and restoring wetland acreage and improving wetland health. In pursuing these goals, EPA seeks to build the capacity of all levels of government to develop and implement effective, comprehensive programs for wetland protection and management. The six program areas central to achieving these goals are: regulation, monitoring and assessment, restoration, wetland water quality and watershed management, public-private partnerships, and coordination among agencies with wetland or wetland-related programs.

The Wetland Program Development Grants (WPDGs), initiated in FY90, provide States, Tribes, local governments (S/T/LGs), interstate associations, intertribal consortia, and national non-profit, non-governmental organizations (hereafter referred to as applicants or recipients) an opportunity to carry out projects to develop and refine comprehensive wetland programs. WPDGs provide eligible applicants an opportunity to conduct projects that promote the coordination and acceleration of research, investigations, experiments, training, demonstrations, surveys, and studies relating to the causes, effects, extent, prevention, reduction, and elimination of water pollution.

While WPDGs can continue to be used by recipients to build and refine any element of a comprehensive wetland program, emphasis through the competition process will be given to funding projects that address these three areas as identified by EPA: (1) Developing a comprehensive monitoring and assessment program; (2) improving the effectiveness of compensatory mitigation; and (3) refining the protection of vulnerable wetlands and aquatic resources. States, Tribes, local governments (S/T/LGs), interstate associations, intertribal consortia are eligible to apply. In order to provide greater assistance to S/T/LGs, non-profit, non-governmental organizations which undertake activities that advance wetland programs on a national basis are eligible to apply for WPDG funding. Local/regional chapters/affiliations of a nonprofit organization are not eligible for WPDGs.

Interest in the grant program has continued to grow over the years and Congress has appropriated $15 million annually to support the wetland grant program. Since the Wetland Grant Development Program started in FY90, grant funds are awarded on a competitive basis to support development of State and Tribal wetland programs.

The statutory authority for WPDGs is section 104(b)(3) of the Clean Water Act (CWA). Section 104(b)(3) of the CWA restricts the use of these grants to developing and refining wetland management programs by conducting or promoting the coordination and acceleration of research, investigations, experiments, training, demonstrations, surveys, and studies relating to the causes, effects, extent, prevention, reduction, and elimination of water pollution. These competed grants may not be used for the operational support of wetland programs unless it is included in a Performance Partnership Grant (PPG). States and Tribes may not use WPDG funds for implementation of a wetlands program. However, funds available for WPDG grants may be combined in a PPG which may, in certain circumstances, provide the authorization to undertake implementation activities. For further information, see the final rules on Environmental Program Grants for State, Interstate, and local government agencies at 40 CFR part 35, subpart A and Tribes at 40 CFR part 35, subpart B. All projects funded through this program must contribute to the overall development and improvement of S/T/LG wetland programs. Grant applicants must demonstrate that their proposed project integrates with S/T/LG wetland programs.

This document describes the grant selection and award process for eligible applicants interested in applying for WPDGs under the competitive process. EPA Regions and Headquarters may supplement this notice with additional information pertaining specifically to each Regional/Headquarters competition. These guidelines stay in effect until new ones are published for the competitive process.

I. Funding Opportunity Description

The types of projects that award recipients can undertake to develop and refine their comprehensive wetland programs are diverse. In the past, award recipients have pursued a wide range of activities, such as developing management tools for wetland resources, advancing scientific and technical tools for protecting wetland health, improving availability of data and information about wetlands, developing and disseminating local wetland ordinances that complement Federal and State management, and training wetland managers and the public about wetland and watershed values.

For the WPDG competitive process, the wetland program has identified three areas for improving S/T/LGs ability to protect and restore their wetlands: (1) Developing a comprehensive wetland monitoring and assessment program; (2) improving the effectiveness of compensatory mitigation; and (3) refining the protection of vulnerable wetlands and aquatic resources. Regions are encouraged to target at least two-thirds of their competitive WPDG funds to projects that focus on one or more of the program priorities. In this competitive grant program, EPA will emphasize funding diverse levels of government and various entities involved in innovative wetland and watershed issues. Applicants are encouraged to develop WPDG applications that address these program areas.

A. Developing a Comprehensive Monitoring and Assessment Program

This solicitation seeks proposals that support the development of a comprehensive S/T/LG wetland monitoring and assessment program. State and Tribal adoption of an ambient wetland monitoring and assessment program is the primary goal of this solicitation (i.e., projects that build S/T/LG capacity to determine the causes, effects, and extent of pollution to wetland resources and develop pollution prevention, reduction, and elimination strategies). More information related to wetland monitoring and assessment can be found at http://www.epa.gov/owow/wetlands/facts/monitor.pdf and http://www.epa.gov/owow/wetlands/facts/devgrants.pdf.

Project proposals may address development, testing, and demonstration of methods and programs to monitor and assess wetlands. For example, proposed work may include the use of biological and hydrogeomorphic (HGM) assessment procedures and surveys to test the accuracy of (a) rapid wetland assessment methods or (b) other types of assessment methods that use geographical information systems (GIS) to describe wetland condition or trends in wetland extent. Also, EPA encourages the submission of proposals for work that will demonstrate the use of wetland assessment methods for:

1. Assessing the ecological consequences of a given regulatory action or group of actions;

2. Improving the evaluation and ranking of potential wetland sites for restoration or acquisition at various levels;

3. Evaluating the ecological effectiveness of wetland restoration projects, including compensatory mitigation;

4. Developing design or performance standards for wetland restoration, including compensatory mitigation;

5. Evaluating the cumulative effect of wetland loss and restoration in terms of change in the ambient condition of wetlands and other waterbodies within a watershed;

6. Gathering information to refine water quality standards or related administrative code to bring added protection to wetlands, including isolated wetlands; and/or

7. Gathering information to develop management strategies to control the spread and adverse effects of non-indigenous, invasive wetland species.

Proposals should address how work to accomplish the particular objective(s) will assist S/T/LGs in developing comprehensive wetland monitoring and assessment programs. Proposals also should describe how methods under development will improve decision-making across various surface water management programs. For example, EPA encourages the submissions of proposals for work that will demonstrate how information about ambient wetland condition can be used by local authorities when making decisions affecting land and water use, including their adoption of stormwater and smart growth management strategies. Provisional reporting of ambient wetland condition, relative to reference conditions, in Clean Water Act section 305(b) reports is a logical first step toward meeting that particular objective. When preparing proposals, care should be given to ensure that any data collected under the grant is of a known and documented quality.

Accordingly, applicants may host technical training workshops, establish regional or State interagency wetland monitoring and assessment workgroups, develop volunteer monitoring programs, and improve wetland inventories (e.g., use of hydrogeomorphic (HGM) wetland classification system). Examples of case studies illustrating wetland monitoring and assessment methods can be found at http://www.epa.gov/owow/wetlands/bawwg/case.html and http://www.epa.gov/region01/eco/wetland/index.html. Many of the case studies listed on those Web sites were funded by WPDGs.

Additionally, recipients of grants for wetland monitoring projects will be required to submit all data from monitoring activities to STORET (short for STOrage and RETrieval). STORET provides an accessible, nationwide central repository of water information of known quality. Grantee submission of monitoring data into STORET or monitoring data made available in the Advisory Council for Water Information (ACWI) Core Monitoring Data Element Standard (or Data Exchange Template) will facilitate exchange of monitoring data between EPA and its partners. Information on STORET is at http://www.epa.gov/storet and information on the standard is at http://www.epa.gov/edr.

B. Improving the Effectiveness of Compensatory Mitigation

S/T/LGs should consider projects that improve the capacity to ensure ecologically effective compensatory mitigation for unavoidable impacts. For example, WPDGs can be used to develop mitigation performance standards. They also can be used to develop and verify assessment methods and/or tracking (reporting) systems that document:

1. The technical adequacy of compensatory mitigation project plans (e.g., plan review standards);

2. The ecological suitability of proposed compensatory mitigation project sites (e.g., develop site review standards that have a watershed context);

3. The compliance of mitigation projects at various stages of implementation; and

4. The adequacy of compensatory mitigation for managing cumulative wetland impacts under the Federal CWA section 404/401 program.

The National Wetlands Mitigation Action Plan, released in December 2002 by EPA and the U.S. Army Corps, describes seventeen action items that the Federal agencies will complete by 2005 in order to improve the ecological performance and results of compensatory mitigation. The tasks identified in the Plan convey the major areas of interest regarding mitigation that are being supported by the Federal agencies. Proposed projects that support such endeavors at the S/T/LG level are encouraged. A copy of the Plan and related documents can be found at http://www.epa.gov/owow/wetlands/guidance/index.html#mitigation.

Background information describing concepts and methods for improving the effectiveness of compensatory mitigation can be found in a National Academy of Science publication entitled “Compensating for Wetland Losses Under the Clean Water Act.” The document can be found at http://www.nap.edu/books/0309074320/html/.

Wetland program grant funds can only be used for research, investigations, experiments, training, demonstrations, surveys, and studies to support (or to improve or develop) mitigation programs; they cannot be used for specific mitigation activities (e.g., implementation of individual mitigation projects, mitigation banks, or in-lieu-fee mitigation programs).

C. Refining the Protection of Vulernable Wetlands and Aquatic Resources

While wetlands provide important ecological functions on a watershed scale, some are better protected than others. For example, isolated wetlands and waters may be particularly at risk as may wetlands subject to damage from activities other than the discharge of dredged or fill material. S/T/LGs wishing to develop comprehensive wetland protection programs to protect such vulnerable waters from a variety of potential impacts are encouraged to do so and encouraged to incorporate wetland issues into ongoing watershed plans. Efforts can include, but are not limited to, information dissemination, data exchange, studying S/T/LG regulatory improvement opportunities, and surveying opportunities for land acquisition, conservation easements, and tax incentive provisions. Funds received through the WPDG competition cannot be used to fund activities to implement a wetlands program, or fund the purchase of land or conservation easements.

D. Other Program Areas

WPDGs that are awarded may be used by recipients to also develop and refine all elements of a comprehensive wetland program. The Regions may also supplement the above program areas with Regional efforts that they want to emphasize, while still targeting two-thirds of the WPDG funds toward the three program priority areas described previously in this notice.

II. Award Information

EPA's Wetlands Division intends to continue to award $15 million of WPDG funds through a competitive process to eligible applicants through assistance agreements. Most of the WPDG funds for the competition are allocated to EPA Regional Offices, based on the number of States and Territories within the Region, to fund S/T/LGs, interstate agencies, and intertribal consortia. Headquarters reserves a portion of the WPDG funds for national non-profit, non-governmental organizations, interstate agencies, and intertribal consortia under the competitive process. Funding decisions for the competition are made by EPA Regional and Headquarters Offices and are based on the quality of the proposals received and adherence to the selection criteria. EPA typically receives requests for funding far in excess of available funds. Therefore EPA cannot provide grant funds to all applicants.

The number of applicants that will be requested to submit a complete application and the number of applications recommended for award depend on the quality of the proposals received and the relative amount of funding requests. The quality of the proposals will be evaluated according to the criteria and selection process noted below. Total funding available for award by EPA depends each year on the Wetlands Program's yearly fiscal appropriation. (Previous grant awards ranged from $11,000 to $496,000.) The terms of the period of performance will be determined at time of award. EPA reserves the right to reject all proposals and make no awards.

III. Eligibility Information

A. Eligible Applicants for Competitive Process

States, Tribes, local government agencies, interstate agencies, intertribal consortia, and national, nonprofit, non-governmental organizations are eligible. Typical wetland or wetland related agencies include, but are not limited to, wetland regulatory agencies, water quality agencies (section 401 water quality certification), planning offices, wild and scenic rivers agencies, departments of transportation, fish and wildlife or natural resources agencies, agriculture departments, forestry agencies, coastal zone management agencies, park and recreation agencies, non-point source or storm water agencies, city or county and other S/T/LG agencies that conduct wetland-related activities.

In order to be eligible for WPDG funds, Tribes must be Federally recognized, although “Treatment as a State” status is not a requirement. Intertribal consortia that meet the requirements of 40 CFR part 35.504 are eligible for direct funding.

Interstate agency and intertribal consortia projects must be broad in scope and encompass more than one State, Tribe, or local government.

In order to provide greater assistance to S/T/LGs, non-profit, non-governmental organizations which undertake activities that advance wetland programs on a national basis are eligible for WPDG funding. Activities must help S/T/LGs develop and refine wetland programs. For example, projects can involve advancing wetland science, providing training on how various S/T/LG wetland programs across the nation protect, manage and restore their wetland resources, and about initiatives to improve S/T/LG wetland programs. Local/regional chapters/affiliations of nonprofit organizations are not eligible for WPDGs and applications will only be accepted from the national headquarters level of nonprofit, non-governmental organizations. National nonprofit organizations are only eligible to submit their proposals to the Headquarters Wetland Grant Coordinator for this competition. (See Section VII for Agency Contact information.)

B. Cost Sharing/Match Requirements

S/T/LGs, interstate agencies, and intertribal consortia must provide a minimum of 25% of each award's total project costs in accordance with 40 CFR 31.24, 35.385, and 35.615. We encourage States, Tribes and local governments to provide a larger share of the project's cost whenever possible (i.e., in excess of the required 25% of total project costs). Non-profit, non-governmental organizations must also provide a minimum of 25% of each award's total project costs.

Forty CFR 35.536(c) (the Environmental Program Grants for Tribes Regulation), states that “the required cost share shall be five percent of the allowable cost of the work plan budget for that program” if the Tribal applicant puts the funds into a PPG. Tribal applicants can submit budgets with a 5% match if the Tribe is going to put the funds into a PPG. The following term and condition will be included in the assistance agreement awarded to the Tribe: If the Wetland Program Grant Funds are not or could not be included in a PPG, then the Tribe must provide a 25% match.

The match requirement can be met with contributions from entities other than the award recipient. Other Federal money cannot be used as the match for this grant program unless authorized by the statute governing the award of the other Federal funds. However, Indian Tribes can use funds provided under the Indian Self-Determination and Education Act (25 U.S.C. 450 et seq.) to provide the required matching funds to the extent authorized by that Act and implementing regulations.

Matching funds are considered grant funds. They may be used for the reasonable and necessary expenses of carrying out the work plan. Any restrictions on the use of grant funds (i.e., prohibition of land acquisition with grant funds) also apply to the use of matching funds.

C. Local and Tribal Funding Targets

Each Regional Office will support the local government initiative and Tribal efforts by targeting at least 15% of their Regional allocation to local government and Tribal applications.

D. Performance Partnership Grants

A Performance Partnership Grant (PPG) is a multi-program grant made to a State, Tribe, interstate agency, or intertribal consortium from funds appropriated for many of EPA's environmental program grants. Local governments are not eligible for PPGs. PPGs are voluntary and provide recipients the option to combine funds from two or more environmental program grants into one or more PPGs. PPGs can provide administrative and/or programmatic flexibility.

Funds for a WPDG may be included in a PPG. Under this competition, State proposals must first be selected under the competitive grant process and, in accordance with 40 CFR 35.138, the work plan commitments that would have been included in the WPDG work plan must be included in the PPG work plan. Similarly, Tribal proposals must first be selected under this competitive grant process, and in accordance with 40 CFR 35.535. States and Tribes may not use WPDG funds for implementation of a wetlands program. However, funds available for WPDG grants may be combined in a PPG which may, in certain circumstances, provide the authorization to undertake implementation activities. For further information, see the final rules on Environmental Program Grants for State, Interstate, and local government Agencies at 40 CFR part 35, subpart A and Tribes at 40 CFR part 35, subpart B. The rules are also available on EPA's Web site at: http://www.epa.gov/fedrgstr/EPA-TOX/2001/Day-09/t218.htm (State) and at http://www.epa.gov/fedrgstr/EPA-GENERAL/2001January/Day-16/g219.htm (Tribal).

IV. Application and Submission Information

A. Request for Application Packages

Grant application forms are available at http://www.epa.gov/ogd/AppKit/index.htm/ and by mail upon request by calling the Grants Administration Division at (202) 564-5305. If you have questions, contact your Headquarters or Regional Office Wetland Grant Coordinator (see Section VII for Agency Contact information) or visit our website at http://www.epa.gov/owow/wetlands/grantguidelines/.

B. Content and Form of Application Submission

Headquarters and Regional Offices may ask applicants to submit pre-application proposals. For specific Regional/Headquarters information, contact your Headquarters or Regional Office Wetland Grant Coordinator (see Section VII for Agency Contact information). As provided in 40 CFR 35.107 and 35.507, for States, Tribes, local governments, interstate agencies, and national non-profit organizations, work plans must include: (1) A summary of key objectives, work plan commitments and final products; (2) a detailed description of project tasks and an explanation of how the project will contribute to developing or improving a S/T/LG's wetland program; (3) a time-line and reporting schedule; (4) a budget and estimated funding amounts for each work plan component; (5) outcomes and expected environmental results; (6) performance measures and evaluation process; (7) roles and responsibilities of the recipient in carrying out the work plan commitments; and (8) contact information for the Program Manager, Grant Project Lead Manager, and Account Manager. Grant applicants will be required to provide a Dun and Bradstreet (D&B) Data Universal Numbering System (DUNS) number when applying for Federal grants or cooperative agreements. Organizations can receive a DUNS number in one day, at no cost, by calling the dedicated toll-free DUNS Number request line at 1-866-705-5711 or by visiting www.dnb.com.

C. Submission Dates and Times

Submission deadlines are set by EPA Headquarters and Regional Offices. Please contact the appropriate Headquarters or Regional Office Wetland Grant Coordinator for information and/or to confirm competition deadlines (see Section VII for Agency Contact information). Deadlines will also be posted at http://www.epa.gov/owow/wetlands/grantguidelines/. Application proposals must be submitted to the appropriate EPA office and postmarked or emailed by the appropriate Regional or Headquarters deadline. Applicants interested in being put on a mailing list to obtain more details should contact the appropriate Headquarters or Regional Wetland Grant Coordinator (see Section VII for Agency Contact information).

D. Intergovernmental Review

Applicants requested to submit a full application may be required to comply with Intergovernmental Review Requirements (40 CFR part 29).

E. Funding Restrictions

Based on policy, regulation, and on experience gained from previous years we offer the following comments/restrictions on funding eligibility.

• Universities that are agencies of State government are eligible to receive grant funds from the Regional Offices through this competition. Universities must provide documentation acceptable to the EPA Regional Office to demonstrate that they function as a State agency. Universities that are not chartered as a part of State government are not eligible for direct funding from EPA Regional Offices. Also, any award recipients may award such entities contracts in accordance with 40 CFR 31.36, and subgrants in accordance with 40 CFR 31.37. The State, Tribe, local agency, or national non-profit organization should not simply pass through funding to an organization that is not eligible to receive funding directly. Land grant schools do not automatically qualify for direct funding as an agency of a State because of their status as a land grant school.

• Under the WPDG competitive process, funds cannot be used for land acquisition or purchase of easements. However, it may support the coordination or acceleration of research, investigations, experiments, training, demonstrations, surveys, and study efforts directed at identifying areas for acquisition, which would help address water pollution problems including wetlands protection and restoration.

• This competitive grant program cannot fund payment of taxes for landowners who have a wetland on their property.

• While contractual efforts can be a part of these grants, each WPDG recipient must be significantly involved in the administration of the grant. EPA recommends that recipients use no more than 50% of the grant funds to contract with non-governmental entities. However, if the applicant wants to exceed this limit, the applicant may submit a written justification for greater involvement by non-governmental contractors as part of the grant application package. EPA will evaluate the need for greater contractual participation and may approve the request if there is adequate justification to exceed the 50% limit. If the contractual work is being done by another S/T/LG agency, interstate agency, or intertribal consortia, these entities should be clearly indicated in the grant application.

• Inventory or mapping for the sole purpose of locating wetlands is not eligible for funding under this competition. A description of how mapping or inventory projects will directly develop or improve the eligible applicant's wetland protection programs must be included in the grant application for these types of projects to be considered for funding under this grant program.

• Under the competition, each grant must be completed with the initial award of funds. Recipients should not anticipate additional funding beyond the initial award of funds for a specific project. Eligible applicants should request the entire amount of money needed to complete the project in the original grant application. Each grant should produce a final, discrete product. Funding and project periods can be for more than one year.

• Grant funds cannot be used to fund an honorarium under this competition.

• Any field work or research-type activities are limited to activities that have a direct, demonstrated link to program development or refinement included in the application.

• Purchase/lease of vehicles (including boats, motor homes) and office furniture is not eligible for funding under this program.

• Grant funds cannot be used to pay for travel by Federal agency staff.

V. Application Review Information

A. Selection Criteria

For the traditional competitive WPDG funding, proposals will be evaluated using the following general categories of criteria:

• Program Area Emphasis—priority in the selection process will be given to projects which support the development of a S/T/LG's monitoring and assessment program, improvement of the effectiveness of compensatory mitigation, or protection of vulnerable wetlands and aquatic resources.

• Clarity of Work Plan—clearly written and detailed proposals.

• Potential Environmental Results—likelihood of positive environmental results in the short- and long-term.

• Transferability of Results and/or Methods to other S/T/LGs.

• Involvement/Commitment of the applicant—significant financial and personnel contribution and involvement of partners.

• Incorporation of project into broad agency wetland goals (e.g., Government Performance Results Act (GPRA) Goals, EPA Strategic Plan, or Core Elements of a Comprehensive Wetland Program.) Please contact the Wetlands Helpline at (800) 832-7828) for more information.

• Data Management—capability to report monitoring data to STORET.

• Success of Previous Projects—for applicants who have received prior EPA funding.

Proposals are evaluated by the quality of the submission related to the above criteria. The last criterion is applied only to prior grant recipients. The last criterion does not add value in the rating process for prior wetland grant recipients to give an automatic advantage over new applicants. The last criterion, does, in cases of inadequate and inappropriate prior grant performance, lower an applicant's ranking; it allows consideration of poor past performance in the evaluation of current grant proposals.

B. Review and Selection Process

For the competitive process, WPDG applications from States, Tribes, and local governments are handled through EPA Regional Offices, while applications from national non-profit, non-governmental organizations are handled through EPA Headquarters. Applications from interstate agencies and intertribal consortia can be submitted to either a Regional Office or Headquarters, however, the same proposals from interstate and intertribal agencies cannot be submitted to more than one office. Headquarters and Regional Office staff will review the applications received in their respective offices and select the most competitive projects for funding on the basis of the selection criteria. Both the quality and quantity of the applications will play a significant role in the selection of grants for funding.

VI. Award Administration Information for Competitive Process

A. Award Notices

All applicants will be notified by the appropriate EPA Office (Region/Headquarters) on whether or not the applicant has been selected for funding. The notification is not an authorization to begin performance. A notice signed by the Grants Administration Division is the authorizing document to the applicant to begin performance.

B. Administrative and National Policy Requirements

The general award and administration process for all WPDGs is governed by regulations at 40 CFR part 30 (“Grants and Agreements with Institutions of Higher Education, Hospitals, and Other Non-Profit Organizations”), 40 CFR part 31 (“Uniform Administrative Requirements for Grants and Cooperative Agreements to State and Local Governments”) and 40 CFR part 35, subpart A (“Environmental Program Grants for State, Interstate, and Local Government Agencies”) and subpart B (“Environmental Program Grants for Tribes”).

C. Reporting

WPDGs are currently covered under the following EPA grant regulations: 40 CFR part 30 (non-profit organizations); 40 CFR part 31 (States, Tribes, interstate agencies, intertribal consortia and local governments) and 40 CFR part 35, subpart A (States, interstate agencies and local governments) and subpart B (Tribes and intertribal consortia). These regulations specify basic grant reporting requirements, including performance and financial reports (see 40 CFR 30.51, 30.52, 31.40, 31.41, 35.115, and 35.515.) In negotiating these grants, EPA will work closely with recipients to incorporate appropriate performance measures and reporting requirements into each grant agreement consistent with 40 CFR 30.51, 31.40, 35.115, and 35.515. These regulations provide some flexibility in determining the appropriate content and frequency of performance reports. At a minimum, however, the reporting schedule must require the recipient to report at least annually.

VII. Agency Contacts

Headquarters and Regional Wetland Grant Coordinators

Headquarters

Connie Cahanap, U.S. EPA Wetlands Division, 1200 Pennsylvania Avenue, NW., MC 4502T, Washington, DC 20460. Phone: 202-566-1382. cahanap.concepcion@epa.gov.

Region 1—CT, ME, MA, NH, RI, VT

Jeanne Cosgrove. U.S. EPA Region 1, 1 Congress Street, MC CSP, Suite 100, Boston, MA 02114. Phone: 617-918-1669. cosgrove.jeanne@epa.gov.

Region 2—NJ, NY, PR, VI

Kathleen Drake, U.S. EPA Region 2, 290 Broadway, NY, NY 10007. Phone: 212-637-3817. drake.kathleen@epa.gov.

Region 3—DE, MD, PA, VA, WV, DC

Alva Brunner, U.S. EPA Region 3, 1650 Arch Street, MC 3EA30, Philadelphia, PA 19103. Phone: 215-814-2715. brunner.alva@epa.gov.

Region 4—AL, FL, GA, KY, MS, NC, SC, TN

Sharon Ward, U.S. EPA Region 4, 61 Forsyth Street, SW., Atlanta, GA 30303. Phone: 404-562-9269. ward.sharon@epa.gov.

Region 5—IL, IN, MI, MN, OH, WI

Cathy Garra, U.S. EPA Region 5, 77 West Jackson Blvd., MC WW16J, Chicago, IL 60604. Phone: 312-886-0241. garra.catherine@epa.gov.

Region 6—AR, LA, NM, OK, TX

Tyrone Hoskins, U.S. EPA Region 6, 1445 Ross Avenue, MC 6WQ-AT, Dallas, TX 75202. Phone: 214-665-7375. hoskins.tyrone@epa.gov.

Region 7—IA, KS, MO, NE

Jason Daniels, U.S. EPA Region 7, 901 North Fifth Street, Kansas City, KS 66101. Phone: 913-551-7443. daniels.jason@epa.gov.

Region 8—CO, MT, ND, SD, UT, WY

Brent Truskowski, U.S. EPA Region 8, 999 18th Street, Suite 300, Denver, CO 80202. Phone: 303-312-6235. truskowski.brent@epa.gov.

Region 9—AZ, CA, HI, NV, AS, GU

Cheryl McGovern, U.S. EPA Region 9, 75 Hawthorne Street, San Francisco, CA 94105. Phone: 415-972-3415. mcgovern.cheryl@epa.gov.

Region 10—AK, ID, OR, WA

David Kulman, U.S. EPA Region 10, 1200 Sixth Avenue, Seattle, WA 98101. Phone: 206-553-6219. kulman.david@epa.gov.

VIII. Other Information

A. Quality Assurance/Quality Control (QA/QC)

QA/QC and peer review are sometimes applicable to these grants (see 40 CFR 30.54 and 40 CFR 31.45.) QA/QC requirements apply to the collection of environmental data. Environmental data are any measurements or information that describe environmental processes, location, or conditions; ecological or health effects and consequences; or the performance of environmental technology. Environmental data include information collected directly from measurements, produced from models, and compiled from other sources such as databases or literature. Applicants should allow sufficient time and resources for this process. EPA can assist applicants determine whether QA/QC is required for the proposed project. If QA/QC is required for the project, the applicant is encouraged to work with the appropriate EPA quality staff to determine the appropriate QA/QC practices for the project. If the applicant has an EPA-approved quality assurance project plan and it covers the project in the application, then they need only reference the plan in their application. Contact the appropriate Headquarters or Regional Office Wetland Grant Coordinator (See Section VII for Agency Contact information) for referral to an EPA quality staff.

B. Public Participation

EPA regulations require public participation in various Clean Water Act programs including grants (40 CFR part 25). Each applicant for EPA financial assistance shall include tasks for public participation in their project's work plan submitted in the grant application (40 CFR 25.11.) The project work plan should reflect how public participation will be provided for, assisted, and accomplished.

C. Annual Wetlands Meeting/Training

EPA encourages S/T/LGs to include travel plans for wetland personnel to attend at least one national wetland meeting in support of the project or for training each year (e.g., National EPA, State, Tribal, Local wetland meeting or wetland monitoring workshops.) Applicants should account for travel plans and costs in the work plans and the project budget. EPA's Wetlands Program does not anticipate providing travel for State, Tribal or local government staff to attend meetings other than through this grant program.

Dated: January 22, 2004.
Diane Regas,
Director, Office of Wetlands, Oceans, and Watersheds.

[FR Doc. 04-2818 Filed 2-9-04; 8:45 am]

BILLING CODE 6560-50-P